DEPARTMENT OF ENERGY

Federal Energy Regulatory Commission

Combined Notice of Filings #1

Take notice that the Commission received the following electric corporate filings:

Docket Numbers: EC23-3-000.

Applicants: Jackson Generation, LLC.

Description: Application for Authorization Under Section 203 of the Federal Power Act of Jackson Generation, LLC.

Filed Date: 10/6/22.

Accession Number: 20221006-5094.

Comment Date: 5 p.m. ET 10/27/22.

Take notice that the Commission received the following electric rate filings:

Docket Numbers: ER18-872-001; ER20-813-001.

Applicants: Mercuria Energy America, Inc., Mercuria Commodities Canada Corporation.

Description: Notice of Change in Status of Mercuria Energy America, LLC, et al.

Filed Date: 10/5/22.

Accession Number: 20221005-5170.

Comment Date: 5 p.m. ET 10/26/22.

Docket Numbers: ER22-1089-003.

Applicants: Jackson Generation, LLC.

Description: Compliance filing: Informational filing to be effective N/A.

Filed Date: 10/6/22.

Accession Number: 20221006-5027.

Comment Date: 5 p.m. ET 10/27/22.

Docket Numbers: ER22-1703-002.

Applicants: Salem Harbor Power Development LP.

Description: Notice of Non-Material Change in Status of Salem Harbor Power Development LP.

Filed Date: 10/5/22.

Accession Number: 20221005-5169.

Comment Date: 5 p.m. ET 10/26/22.

Docket Numbers: ER22-2048-001.

Applicants: Skipjack Solar Center, LLC.

Description: Tariff Amendment: Deficiency Response in Docket ER22-2048 to be effective 6/8/2022.

Filed Date: 10/6/22.

Accession Number: 20221006-5123.

Comment Date: 5 p.m. ET 10/27/22.

Docket Numbers: ER22-2187-000; ER22-2188-000.

Applicants: Northwest Ohio IA, LLC, Northwest Ohio Solar, LLC.

Description: Second Supplement to June 24, 2022 Northwest Ohio Solar, LLC, et al. tariff filing.

Filed Date: 10/5/22.

Accession Number: 20221005-5174.

Comment Date: 5 p.m. ET 10/26/22

Docket Numbers: ER22-2365-001.

Applicants: Midcontinent Independent System Operator, Inc., Ameren Illinois Company.

Description: Tariff Amendment: Midcontinent Independent System Operator, Inc. submits tariff filing per 35.17(b): 2022-10-06_SA 3861 Deficiency Response Ameren-ComEd Construction Agreement to be effective 9/12/2022.

Filed Date: 10/6/22.

Accession Number: 20221006-5125.

Comment Date: 5 p.m. ET 10/27/22.

Docket Numbers: ER22-2369-002.

Applicants: Midcontinent Independent System Operator, Inc., Ameren Illinois Company.

Description: Tariff Amendment: Midcontinent Independent System Operator, Inc. submits tariff filing per 35.17(b): 2022-10-06_SA 3862 Deficiency Response Ameren-ComEd As Available Agreement to be effective 9/12/2022.

Filed Date: 10/6/22.

Accession Number: 20221006-5127.

Comment Date: 5 p.m. ET 10/27/22.

Docket Numbers: ER22-2452-001.

Applicants: Kentucky Utilities Company.

Description: Tariff Amendment: APCO Borderline Agreement Response to September 15, 2022 Deficiency Letter to be effective 10/1/2022.

Filed Date: 10/6/22.

Accession Number: 20221006-5025.

Comment Date: 5 p.m. ET 10/27/22.

Docket Numbers: ER22-2858-000.

Applicants: Ball Hill Wind Energy, LLC.

Description: Supplement to September 15, 2022, Ball Hill Wind Energy, LLC tariff filing.

Filed Date: 10/5/22.

Accession Number: 20221005-5144.

Comment Date: 5 p.m. ET 10/26/22.

Docket Numbers: ER22-2859-000.

Applicants: Bluestone Wind, LLC.

Description: Supplement to September 15, 2022, Bluestone Wind, LLC tariff filing.

Filed Date: 10/5/22.

Accession Number: 20221005-5168.

Comment Date: 5 p.m. ET 10/26/22.

Docket Numbers: ER22-2963-001.

Applicants: Yellowbud Solar, LLC.

Description: Tariff Amendment: Supplement to Application for Market-Based Rate Authority to be effective 11/1/2022.

Filed Date: 10/6/22.

Accession Number: 20221006-5108.

Comment Date: 5 p.m. ET 10/27/22.

Docket Numbers: ER23-22-000.

Applicants: Puget Sound Energy, Inc.

Description: § 205(d) Rate Filing: Proposed Amendments to the PSE OATT to be effective 12/4/2022.

Filed Date: 10/6/22.

Accession Number: 20221006-5000.

Comment Date: 5 p.m. ET 10/27/22.

Docket Numbers: ER23-23-000.

Applicants: American Illuminating Company, LLC.

Description: Tariff Amendment: Cancellation of Market Based Rate Tariff to be effective 10/7/2022.

Filed Date: 10/6/22.

Accession Number: 20221006-5005.

Comment Date: 5 p.m. ET 10/27/22.

Docket Numbers: ER23-24-000.

Applicants: Unitil Energy Systems, Inc.

Description: Unitil Energy Systems, Inc. Notice of Termination of Interim Distribution Wheeling Agreement with Briar Hydro Associates, LP.

Filed Date: 10/5/22.

Accession Number: 20221005-5173.

Comment Date: 5 p.m. ET 10/26/22.

Docket Numbers: ER23-25-000.

Applicants: Jackson Generation, LLC.

Description: Jackson Generation, LLC Request a One-Time Limited Waiver of the 90-day Notice Requirement Contained in Schedule 2 of the PJM Tariff.

Filed Date: 10/6/22.

Accession Number: 20221006-5026.

Comment Date: 5 p.m. ET 10/27/22.

Docket Numbers: ER23-26-000.

Applicants: American Transmission Company LLC, Midcontinent Independent System Operator, Inc.

Description: § 205(d) Rate Filing: American Transmission Company LLC submits tariff filing per 35.13(a)(2)(iii: 2022-10-06_SA 3909 ATC-City of Negaunee PCA (Irontown) to be effective 12/6/2022.

Filed Date: 10/6/22.

Accession Number: 20221006-5050.

Comment Date: 5 p.m. ET 10/27/22.

Docket Numbers: ER23-27-000.

Applicants: New York Independent System Operator, Inc.

Description: Tariff Amendment: Notice of Cancellation of EPCA SA No. 2592 among NYISO, Roaring Brook, NYPA to be effective 12/6/2022.

Filed Date: 10/6/22.

Accession Number: 20221006-5052.

Comment Date: 5 p.m. ET 10/27/22.

Docket Numbers: ER23-28-000.

Applicants: PJM Interconnection, L.L.C.

Description: § 205(d) Rate Filing: Amendment to ISA/CSA, SA Nos. 5562/5563; Queue No. AB2-032/AB2-153 to be effective 1/16/2020.

Filed Date: 10/6/22.

Accession Number: 20221006-5061.

Comment Date: 5 p.m. ET 10/27/22.

Docket Numbers: ER23-29-000.

Applicants: Cargill Power Markets, LLC.

Description: Tariff Amendment: Notice of Cancellation of MBR Tariff to be effective 10/7/2022.

Filed Date: 10/6/22.

Accession Number: 20221006-5067.

Comment Date: 5 p.m. ET 10/27/22.

Docket Numbers: ER23-30-000.

Applicants: Baron Winds LLC.

Description: Baseline eTariff Filing: Application for Market Based Rate Authority to be effective 12/5/2022.

Filed Date: 10/6/22.

Accession Number: 20221006-5132.

Comment Date: 5 p.m. ET 10/27/22.

Docket Numbers: ER23-31-000.

Applicants: Pattersonville Solar Facility LLC.

Description: Compliance filing: Notice of Succession and Revisions to Market-Based Rate Tariff to be effective 10/7/2022.

Filed Date: 10/6/22.

Accession Number: 20221006-5133.

Comment Date: 5 p.m. ET 10/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2022.
Debbie-Anne A. Reese,
Deputy Secretary.

[FR Doc. 2022-22228 Filed 10-12-22; 8:45 am]

BILLING CODE 6717-01-P